DEPARTMENT OF STATE

[Public Notice: 12911]

Notice of Department of State Sanctions Actions

ACTION: Notice.

SUMMARY: The U.S. Department of State is publishing the names of one or more persons that have been placed on the Department of the Treasury's List of Specially Designated Nationals and Blocked Persons (SDN List) administered by the Office of Foreign Asset Control (OFAC) based on the Department of State's determination, in consultation with other departments, as appropriate, that one or more applicable legal criteria were satisfied. All property and interests in property subject to U.S. jurisdiction of these persons are blocked, and U.S. persons are generally prohibited from engaging in transactions with them.

DATES: This action was issued on April 10, 2025. See SUPPLEMENTARY INFORMATION section for applicable dates.

FOR FURTHER INFORMATION CONTACT: Aaron P. Forsberg, Director, Office of Economic Sanctions Policy and Implementation, Bureau of Economic, Energy, and Business Affairs, Department of State, Washington, DC 20520, tel.: (202) 647 7677, email: ForsbergAP@state.gov.

SUPPLEMENTARY INFORMATION:

Electronic Availability

The SDN List and additional information concerning sanctions programs are available on OFAC's website, https://ofac.treasury.gov/sanctions-programs-and-country-information/iran-sanctions.

Notice of Department of State Actions

On April 10, 2025, the Department of State, in consultation with other departments, as appropriate, determined that the property and interests in property subject to U.S. jurisdiction of the following persons are blocked under the relevant sanctions authority listed below.

Entities

BILLING CODE 4710-07-P

BILLING CODE 4710-07-C

3. RISING PHOENIX PROVIDER NV, 40D Keizer Straat, Paramaribo, Suriname; Executive Order 13846 information: BLOCKING PROPERTY AND INTERESTS IN PROPERTY. Sec. 5(a)(iv); Identification Number IMO 6191691 [IRAN-EO13846].

Designated pursuant to section 3(a)(ii) of E.O. 13846, for knowingly engaging in a significant transaction for the purchase, acquisition, sale, transport, or marketing of petroleum or petroleum products from Iran.

4. MARZIYA SHIPPING OPC PVT LTD, A-1, S A Hasan, Langar Khana Chowk, Lucknow, Uttar Pradesh 226003, India; Executive Order 13846 information: BLOCKING PROPERTY AND INTERESTS IN PROPERTY. Sec. 5(a)(iv); Organization Established Date 06 May 2021; C.I.N. U61200UP2021OPC145965 (India); Identification Number IMO 6227200; Business Registration Number 145965 (India) [IRAN-EO13846].

Designated pursuant to section 3(a)(ii) of E.O. 13846, for knowingly engaging in a significant transaction for the purchase, acquisition, sale, transport, or marketing of petroleum or petroleum products from Iran.

Vessels

1. AMOR (TJMC800) Crude Oil Tanker Cameroon flag; Vessel Registration Identification IMO 9182291; MMSI 613884000 (vessel) [IRAN-EO13846] (Linked To: VALIANT MARINE VENTURES FZE).

Identified as property in which VALIANT MARINE VENTURES FZE, an entity designated pursuant to E.O. 13846, has an interest.

2. VIRGO (C5J448) Crude Oil Tanker Gambia flag; Vessel Registration Identification IMO 9236250; MMSI 629009436 (vessel) [IRAN-EO13846] (Linked To: RISING PHOENIX PROVIDER NV).

Identified as property in which RISING PHOENIX PROVIDER NV, an entity designated pursuant to E.O. 13846, has an interest.

Hugo Y. Yon,
Principal Deputy Assistant Secretary, Bureau of Economic, Energy, and Business Affairs, Department of State.

[FR Doc. 2026-01366 Filed 1-23-26; 8:45 am]

BILLING CODE 4710-07-P